DEPARTMENT OF COMMERCE

International Trade Administration

[C-533-825]

Polyethylene Terephthalate Film, Sheet, and Strip From India: Final Results of Countervailing Duty Administrative Review

AGENCY: Import Administration, International Trade Administration, Department of Commerce.

SUMMARY: On August 1, 2011, the Department of Commerce (the Department) issued the preliminary results of the administrative review of polyethylene terephthalate film, sheet and strip (PET Film) from India for Ester Industries Ltd. (Ester), covering the period of review (POR) from January 1, 2009, through December 31, 2009. Based on the results of our analysis of the comments received, we continue to find that subject merchandise produced and exported by Ester has benefitted from countervailable subsidies provided on the production and export of PET Film from India. Also, based on our analysis of Ester's comments, we made certain revisions to the calculations of certain subsidy programs. The final subsidy rate for Ester is listed below in the section titled “Final Results of Administrative Review.” The Department will instruct U.S. Customs and Border Protection (CBP) to assess countervailing duties at the final subsidy rate.

DATES: Effective Date: December 9, 2011.

FOR FURTHER INFORMATION CONTACT: Elfi Blum or Toni Page, AD/CVD Operations, Office 6, Import Administration, International Trade Administration, U.S. Department of Commerce, 14th Street and Constitution Avenue NW., Washington, DC 20230; telephone: (202) 482-0197 or (202) 482-1398.

SUPPLEMENTARY INFORMATION:

Background

Since the issuance of Polyethylene Terephthalate Film, Sheet, and Strip From India: Preliminary Results of Countervailing Duty Administrative Review, 76 FR 47558 (August 5, 2011) (Preliminary Results), the following events have occurred. Ester filed its response to the Department's third supplemental questionnaire on September 8, 2011. On September 21, 2011, the Department issued a memorandum confirming a revised briefing schedule. See Memorandum To Interested Parties From Toni Page, International Trade Analyst, AD/CVD Operations, Office 6, Administrative Review of the Countervailing Duty Order on Polyethylene Terephthalate Film, Sheet, and Strip from India; Revised Briefing Schedule (September 21, 2011). Ester and the petitioners, DuPont Teijin Films, Mitsubishi Polyester Film, Inc., SKC, Inc., and Toray Plastics (America), Inc., timely filed case briefs on September 28, 2011. Both Ester and the petitioners timely filed their respective rebuttal briefs on October 3, 2011.

Scope of the Order

The products covered by the order are all gauges of raw, pretreated, or primed polyethylene terephthalate film, sheet and strip, whether extruded or coextruded. Excluded are metallized films and other finished films that have had at least one of their surfaces modified by the application of a performance-enhancing resinous or inorganic layer more than 0.00001 inches thick. Imports of PET Film are classifiable in the Harmonized Tariff Schedule of the United States (HTSUS) under item number 3920.62.00.90. HTSUS subheadings are provided for convenience and customs purposes. The written description of the scope of the order is dispositive.

Analysis of Comments Received

All issues raised in the case briefs and rebuttal briefs by parties to this administrative review are addressed in the Memorandum from Christian Marsh, Deputy Assistant Secretary for Antidumping and Countervailing Duty Operations, to Paul Piquado, Assistant Secretary for Import Administration, Issues and Decision Memorandum for the Final Results of the Countervailing Duty Administrative Review of Polyethylene Terephthalate Film, Sheet, and Strip (PET Film) from India (December 5, 2011) (Issues and Decision Memorandum), which is hereby adopted by this notice. The Issues and Decision Memorandum also contains a complete analysis of the programs covered by this review and the methodologies used to calculate the subsidy rates and discusses any changes to the subsidy rates from the Preliminary Results. A list of the comments raised in the briefs and addressed in the Issues and Decision Memorandum is appended to this notice. The Issues and Decision Memorandum is on file electronically via Import Administration's Antidumping and Countervailing Duty Centralized Electronic Service System (IA ACCESS). Access to IA ACCESS is available in the Central Records Unit, room 7046 of the main Department of Commerce building. In addition, a complete version of the Issues and Decision Memorandum can be accessed directly on the internet at http://www.trade.gov/ia/. The signed and the electronic versions of the Issues and Decision Memorandum are identical in content.

Changes Since the Preliminary Results

Based on our analysis of comments and information received, we have revised the calculations with respect to the benefit amount calculated for the Pre- and Post-Shipment Export Financing and Export Promotion Capital Goods Scheme programs. In addition, based on our analysis of information Ester provided in its third supplemental questionnaire response, we have made changes to the sales denominators for calculating the ad valorem rates for the programs used by Ester. These changes are discussed in more detail in the Issues and Decision Memorandum.

Final Results of Administrative Review

In accordance with section 777A(e)(1) of the Tariff Act of 1930, as amended (the Act) and 19 CFR 351.221(b)(5), we calculated an individual ad valorem subsidy rate for Ester, for the POR for this administrative review.

Manufacturer/exporter | Subsidy rate (percent)
Ester Industries Ltd. | 11.81

Disclosure

The Department will disclose to parties the calculations performed in connection with these final results within five days of the date of public announcement. See 19 CFR 351.224(b).

Assessment and Cash Deposit Instructions

The Department intends to issue assessment instructions to CBP 15 days after the date of publication of these final results of review to liquidate shipments of subject merchandise produced and exported by Ester and entered, or withdrawn from warehouse, for consumption on or after January 1, 2009, through December 31, 2009 at 11.81 percent ad valorem of the entered value.

The Department intends to also instruct CBP to collect cash deposits of the estimated countervailing duties at the rate of 11.81 percent ad valorem of the entered value on shipments of the subject merchandise produced and exported by Ester, entered, or withdrawn from warehouse, for consumption on or after the date of publication of the final results of this administrative review. These cash deposit requirements, when imposed, shall remain in effect until further notice. The cash deposit rates for all companies not covered by this review are not changed by the results of this administrative review.

Return or Destruction of Proprietary Information

This notice serves as a reminder to parties subject to the administrative protective order (APO) of their responsibility concerning the disposition of proprietary information disclosed under the APO in accordance with 19 CFR 351.305(a)(3). Timely written notification of return or destruction of APO materials or conversion to judicial protective order is hereby requested. Failure to comply with the regulations and the terms of an APO is a sanctionable violation.

We are issuing and publishing these results in accordance with sections 751(a)(1) and 777(i)(1) of the Act.

Dated: December 5, 2011.
Christian Marsh,
Acting Assistant Secretary for Import Administration.

Appendix I

List of Issues Addressed in the Issues and Decision Memorandum

Comment 1: Respondent's Sales Figures.

Comment 2: Calculation of Respondent's DEPS Benefit.

Comment 3: Calculation of Respondent's EPCGS Benefit.

Comment 4: Calculation of Respondent's Pre- and Post-Export Financing Benefit.

Comment 5: The State of Uttar Pradesh Sales Tax Incentive Program.

[FR Doc. 2011-31691 Filed 12-8-11; 8:45 am]

BILLING CODE 3510-DS-P